DEPARTMENT OF ENERGY

[FE Docket Nos. 02-14-NG, 02-16-NG, 02-17-NG, 02-21-NG, 02-22-NG, 00-80-NG, 95-27-NG, 02-24-NG, 02-18-NG]

Office of Fossil Energy; New York State Electric & Gas Corporation, et. al.; Orders Granting and Vacating Authority To Import and Export Natural Gas

AGENCY: Office of Fossil Energy, DOE.

ACTION: Notice of orders.

SUMMARY: The Office of Fossil Energy (FE) of the Department of Energy gives notice that during April 2002, it issued Orders granting and vacating authority to import and export natural gas. These Orders are summarized in the attached appendix and may be found on the FE Web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on May 9, 2002.
Yvonne Caudillo,
Acting Manager, Natural Gas Regulation , Office of Natural Gas & Petroleum, Import & Export Activities, Office of Fossil Energy.

Appendix—Orders Granting and Vacating Import/Export Authorizations

Appendix—Orders Granting and Vacating Import/Export Authorizations
Order No. | Date issued | Importer/exporter Fe docket No. | Import volume | Export volume | Comments
1764 | 4-1-02 | New York State Electric & Gas Corporation—02-14-NG | 50 Bcf |  | Import and export a combined total of natural gas from and to Canada, beginning on July 1, 2002, and extending through June 30, 2004.
1766 | 4-18-02 | NJR Energy Services Company—02-16-NG | 200 Bcf |  | Import and export a combined total of natural gas from and to Canada, beginning on May 1, 2002, and extending through April 30, 2004.
1767 | 4-18-02 | Entergy-Koch Trading, LP—02-17-NG | 800 Bcf |  | Import and export a combined total of natural gas from and to Canada and Mexico, beginning on May 1, 2002, and extending through April 30, 2004.
1768 | 4-18-02 | Alcoa Inc.—02-21-NG | 15 Bcf |  | Import natural gas from Canada, beginning on May 1, 2002, and extending through April 30, 2004.
1769 | 4-18-02 | WGR Canada, Inc.—02-22-NG | 73 Bcf | 73 Bcf | Import and export natural gas from and to Canada, beginning on July 14, 2002, and extending through July 13, 2004.
1639-A | 4-22-02 | Entergy-Koch Trading, LP (the successor to Koch Energy Trading, Inc.)—00-80-NG |  |  | Order vacating blanket import authority.
1047-B | 4-22-02 | Entergy-Koch Trading, LP (The successor to Koch Energy Trading, Inc.)—95-27-NG |  |  | Order vacating blanket import authority.
1770 | 4-22-02 | Newport Northwest, L.L.C.—02-24-NG | 127.75 Bcf | 127.75 Bcf | Import and export natural gas from and to Canada, beginning on November 1, 2002, and extending through October 30, 2004.
1771 | 4-29-02 | UBS AG, London Branch—02-18-NG | 700 Bcf, 700 Bcf |  | Import and export a combined total of natural gas from and to Canada, and import and export a combined total of natural gas from and to Mexico, beginning on April 29, 2002, and extending through April 28, 2004.

[FR Doc. 02-12101 Filed 5-14-02; 8:45 am]

BILLING CODE 6450-01-P